DEPARTMENT OF HOMELAND SECURITY

Coast Guard

33 CFR Part 117

[Docket No. USCG-2014-0254]

Drawbridge Operation Regulation; Jamaica Bay and Connecting Waterways, Queens, NY

AGENCY: Coast Guard, DHS.

ACTION: Notice of deviation from drawbridge regulation.

SUMMARY: The Coast Guard has issued a temporary deviation from the operating schedule that governs the Gil Hodges (Marine Parkway) Bridge across the Jamaica Bay, mile 3.0 at Queens, New York. This temporary deviation authorizes the bridge to remain in the closed position for three days to facilitate mechanical repairs at the bridge.

DATES: This deviation is effective from 7 a.m. on April 28, 2014 through 5 p.m. on April 30, 2014.

ADDRESSES: The docket for this deviation [USCG-2014-0254] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC, 20590, between 9 a.m. and 5 p.m., Monday through Friday, except Federal holidays.

FOR FURTHER INFORMATION CONTACT: If you have questions on this temporary deviation, call or email Ms. Judy Leung-Yee, Project Officer, First Coast Guard District, telephone (212) 668-7165, email judy.k.leung-yee@uscg.mil. If you have questions on viewing the docket, call Cheryl Collins, Program Manager, Docket Operations, telephone 202-366-9826.

SUPPLEMENTARY INFORMATION: The Gil Hodges (Marine Parkway) Bridge across the Jamaica Bay at mile 3.0, at Queens, New York, has 55 feet of vertical clearance at mean high water and 59 feet of vertical clearance at mean low water. The existing drawbridge operation regulations are listed at 33 CFR 117.795(a).

The owner of the bridge, MTA Bridges & Tunnels, requested a temporary deviation from the schedule to facilitate mechanical repairs at the bridge.

The waterway has commercial oil barge traffic of various sizes.

Under this temporary deviation the Gil Hodges (Marine Parkway) Bridge across Jamaica Bay at mile 3.0, may remain in the closed position from 7 a.m. on April 28, 2014 through 5 p.m. on April 30, 2014. Vessels that can pass under the bridge without a bridge opening may do so at all times. There are no alternate routes.

The Coast Guard contacted the upstream facilities and no objections were received.

In accordance with 33 CFR 117.35(e), the bridge must return to its regular operating schedule immediately at the end of the effective period of this temporary deviation. This deviation from the operating regulations is authorized under 33 CFR 117.35.

Dated: April 11, 2014.
C.J. Bisignano,
Supervisory Bridge Management Specialist, First Coast Guard District.

[FR Doc. 2014-09064 Filed 4-21-14; 8:45 am]

BILLING CODE 9110-04-P